DEPARTMENT OF STATE

[Public Notice 6142]

Bureau of Educational and Cultural Affairs (ECA) Request for Grant Proposals: Faith and Community: A Dialogue

Announcement Type: New Grant.

Funding Opportunity Number: ECA/PE/C/NEA-AF-08-24.

Catalog of Federal Domestic Assistance Number:

Application Deadline: May 12, 2008.

Executive Summary

The Office of Citizen Exchanges of the Bureau of Educational and Cultural Affairs, U.S. Department of State, announces an open competition for multiple grants to support international exchange projects under the rubric “Faith and Community: A Dialogue.” Public and private non-profit organizations or consortia of such organizations meeting the provisions described in Internal Revenue Code section 26 U.S.C. 501(c)(3) may submit proposals to develop and implement multi-phased exchanges that bring clerics, scholars of religion, educators, and community leaders/activists from countries with significant Muslim populations to the United States to interact with their counterparts and support reciprocal visits by American clerics, scholars of religion, educators, and community leaders/activists representing the diversity of the American population.

Authority

Overall grant-making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for this program is provided through legislation.

Overview

The Office of Citizen Exchanges awards grants to American public and private nonprofit organizations to develop and implement multi-phased exchanges of professionals, community leaders, scholars and academics, public policy advocates, non-governmental organization activists, and others for periods of 18-24 months. These exchanges deal with issues of crucial importance to the United States and to other countries, they incorporate experiential learning as well as theoretical knowledge for all participants, and they promote focused problem-solving among counterparts based on gained experience and knowledge. A primary goal of this initiative is the establishment of international linkages among individuals and institutions that will lead to the dissemination of ideas and the implementation of cooperative projects. In addition to providing a context for professional development and collaborative problem-solving, projects funded under this initiative should include focused interaction with local citizens in all program communities to familiarize American and foreign participants with one another's cultural, social, political, and economic realities.

The initiative “Faith and Community: A Dialogue” will support international exchanges of professionals who are leaders in their faith communities. Participants may be clerics, scholars of religion, educators, and community leaders/activists who are recognized for their ability to influence their own societies—in the United States and in eligible partner countries—through sermons, scholarly writing, community leadership, and/or educational activities. The objectives of the exchange are (1) to enhance the non-American participants' understanding of the role that religion—particularly Islam—plays in American communities; (2) to develop a common language for American and non-American participants—members of diverse faith communities—to examine issues of relevance to their respective societies and to develop effective approaches and collaborative projects to address those issues; (3) to offer an understanding of Islamic practice within a multi-cultural, multi-faith, democratic context, one that explicitly differentiates between that which is religious and that which is secular; and (4) to broaden the understanding of American scholars, clerics, and laypersons of Islam and of its place in diverse, non-American societies.

We solicit projects that focus on a particular challenge common to faith and community groups in the proposed participating countries. Possible issues include: civil discourse and mutual respect in a multi-faith context; the role of law in resolving conflicts and preserving freedom of expression within and among minority/majority, faith-based and secular communities; the role of faith communities in providing community services; educating for respect and co-existence; the role of law in protecting religious and non-religious expression in diverse societies; or similar themes of relevance to communities in participating countries. In all cases, the proposing institution must demonstrate that it has, or can mobilize, American participants with intellectual expertise and an interest in international dialogue on the selected theme, and it must demonstrate that institutions or individuals it identifies as partners in the program are, indeed, committed to participating. Proposals should also explain how the American organization will identify counterpart experts in participating countries.

The proposal should identify the overall objective of the exchange project and describe an exchange that will take place over 18 to 24 months with several reciprocal exchange visits. The proposal should explain how each component of the exchange will build on previous components to accomplish the overall project objective.

A typical program might begin with the travel of one or two American scholars/project organizers to designated partner countries to deepen their familiarity with the particular issues faced by counterpart institutions and communities in those countries, identify individuals who might serve as advisers or be selected as participants in the project and to gain the interest/commitment of those individuals to participate in the exchange. Subsequently, approximately 12-14 non-American scholars and clerics might come to the United States for a period of three to four weeks for a program structured to exchange expertise, identify specific issues worthy of further exploration, and identify projects to be developed/implemented during subsequent phases of the exchange. In the U.S., activities should include interaction with American Muslim scholars and leaders, as well as with non-Muslim religious leaders and secular institutions related to the theme of the project. They should offer an opportunity for American interlocutors to speak about the challenges they face and for international participants to offer similar perspectives. They should examine issues through workshops, discussions, and dialogue, and they should expose participants to a range of real-life American community experiences, including the possibility of community service or outreach. Finally, a group of American scholars and clerics should travel to the home countries of the non-American participants, meet with counterparts, further refine project plans and, jointly with their counterparts, present seminars, conduct workshops, engaging in community service or public outreach and press (if appropriate), to expand the network of individuals directly affected by the exchange. Similar exchange activities would be organized for the following year.

Throughout the proposed exchange, each phase of the project should be designed to build clearly on the accomplishments of the previous component and to lead toward overall program objectives. For example, if the goal of the project is to open, develop and expand the impact of inter-faith dialogue, the proposal should indicate how activities in the second year will be organized to include broader groups of people. If the project goal is to identify topics for joint action and to work together to implement that action—be it the production of texts or a joint community service activity—the proposal should indicate how the participants selected for each exchange component will build on the work of predecessors and undertake the proposed activity. In all components of the exchange program, traveling participants should be encouraged to interact with local citizens beyond the people actively participating in the exchange itself. In addition, ECA encourages all proposals to identify how program outcomes will be sustained / expanded after project completion.

Geographic Focus

This initiative is worldwide in scope, with primary focus each year on specific regions or countries with significant Muslim populations. To assure balance with already existing exchange programs in this initiative, we are soliciting proposals focused for the following countries / regions in FY08: (1) Morocco, Algeria, Tunisia, Saudi Arabia, Kuwait, Qatar, Bahrain, the United Arab Emirates, Oman, and Yemen; (2) Senegal, Mauritania, Niger, Nigeria, Mali, Guinea, Burkina Faso, Chad; and (3) China; (4) Indonesia.

Specific criteria for proposals focused on each of these countries are noted in the appropriate sections below. To be competitive, proposals must incorporate an understanding of these issues and outline a feasible strategy for addressing them.

(1) Morocco, Algeria, Tunisia, Saudi Arabia, Kuwait, Qatar, Bahrain, the United Arab Emirates, Oman, and Yemen

Proposals for exchange programs focused on a topic as culturally and politically sensitive as interfaith dialogue in these countries must be developed in close consultation and collaboration with the Public Affairs Section of the relevant American Embassy. Proposals must demonstrate that the U.S. implementing institution has the capacity and track-record to work with the Mission to establish and maintain contact with institutions responsible for religious affairs in the participating countries, to include the Ministry of Foreign Affairs, Ministry of Religious Affairs, and, if appropriate, the Ministry of Education. To initiate the program, proposing organizations are encouraged to consider, for example, an exchange of internationally recognized scholars of religion as a way of laying the groundwork for a ministry-sponsored conference. This preliminary engagement at the official level should precede contact with individuals or groups involved in grass-roots scholarship or local community activism. All proposals should be multi-country, and should involve at least two (2) of the countries listed above. The ability to conduct a successful program with clear and relevant objectives should guide the country selection and/or groupings of participants.

Applicants should also consult with the ECA officer responsible for exchanges with North Africa, Thomas Johnston, tel. 202-453-8162; e-mail: JohnstonTJ@state.gov.

(2) Senegal, Mauritania, Niger, Nigeria, Mali, Guinea, Burkina Faso, Chad

Proposals for these countries should focus on the issue of how religion influences personal and group identities, how identity shapes approaches to community outreach and activism, and how religious groups provide community services, particularly in countries and regions of widely diverse populations. These eight countries comprise 215 million people, predominantly Muslims. French is the official language in many of these countries, they are very diverse ethnically and linguistically, and the most populous country, Nigeria, is anglophone. We seek proposals that will clarify the influence of religion in the midst of such diversity, and will bring together American and African partners in planning and providing community services. Proposed program objectives should encourage different religious groups to respect diverse opinions and identities and interact constructively, without violence. Both single-country and multi-country project proposals are welcome. The proposed program should not only introduce religious leaders in the United States and West Africa to each other and build mutual understanding among them through personal interactions, but should also encourage them to design at least one follow-on project in community services to be jointly conducted. Projects might address needs involving health, conflict management, special education, poverty, orphans, or others where religious communities can be helpful, and should allow partners in this grant program to learn from, and assist, each other. ECA encourages proposed programs to lay the groundwork for sustained contact and joint action after the grant period is completed. Grant applicants should consult with the Public Affairs Section of the relevant overseas U.S. Embassy to test their ideas and get advice on local conditions and possible partners.

Applicants should also consult with the ECA officer responsible for exchanges with Africa, Curtis Huff, tel. 202-453-8159; e-mail: HuffCE@state.gov.

(3) China

For proposed projects in China, ECA is especially interested in programs that discuss how religious beliefs define ethnic minorities and how religious practices interact with the sense of belonging to a distinct community. Most likely to prove feasible are projects that target a combination of academics from the National Minorities University, officials from the State Administration for Religious Affairs, and scholars and religious leaders from western China. Note carefully: In addition to the majority Han Chinese, the Government of the People's Republic of China recognizes 55 other “nationalities,” or ethnic groups, numbering approximately 105 million people. These groups live outside the central and costal regions in the northwest, north, northeast, south, and southwest areas. Each of the 55 “nationalities” has unique, defining characteristics, such as language, culture, or religion, shared by the members of the group and not shared with other “nationalities” or with the Han Chinese. Proposed programs for China must demonstrate how the proposed project will accomplish its stated objective, while understanding and respecting these distinctions. Proposals must also demonstrate a significant and established relationship with a host institution within China and must present a detailed, coherent strategy to ensure a substantial program for Chinese participants in the U.S. portion of the program. Exchange projects focused on Muslim audiences in China are particularly sensitive and are subject to Chinese government intervention. Close consultation and cooperation with the Public Affairs Section of the American Embassy is essential in developing the program and should be envisioned at all stages in implementing proposed programs that result in an award.

Applicants should consult with the ECA officer responsible for this exchange with China, Howard (Clint) Wright, tel. (202) 453-8164; e-mail: WrightHC@state.gov.

(4) Indonesia

For Indonesia, ECA seeks proposals that explore the links between religious educational institutions and their communities. Specifically, project objectives should focus on building effective partnerships between community leaders and activists and the administrators of private, secondary-level religious boarding schools (Pesantren). Programs should enable the participants to:

• Acquire an understanding of important elements of civil society. This includes concepts such as volunteerism, the idea that American citizens are responsible for acting at the grassroots level to deal with social and educational problems, and an awareness of respect for the rule of law in the United States.

• Understand the importance of education in creating conditions for a free market economy. This includes awareness of private enterprise and an appreciation of the role of the entrepreneur in economic growth.

• Develop an appreciation for American culture, an understanding of the diversity of American society, and increased tolerance and respect for others with differing views and beliefs.

• Gain leadership capacity that will enable participants to initiate and support activities in their home countries that focus on development and community service.

Applicants should consult with the ECA officer responsible for exchanges with Indonesia, Raymond Harvey, tel. 202-453-8163; e-mail: HarveyRH@state.gov.

All Regions

For all regions, exchange proposals focusing on two or more countries in a region and those focusing on single-country exchanges are equally welcome. The Office of Citizen Exchanges encourages applicants to be creative in planning project implementation. As noted above for each region, exchanges should go beyond general scholarly comparison to address the concrete issues faith groups confront in defining themselves, in relating to their own communities, and in reaching out to broader communities that may or may not share their faith. Proposed programs may focus on inter-faith dialogue and include activities encouraging respect for and among diverse groups and communities, or they may focus primarily on specific issues faith communities face in dealing with concrete challenges of life in multi-lingual, multi-ethnic, multi-communal societies. The program may include activities designed to exchange information and knowledge and share expertise, but it should also include experiential learning by exposing participants to real-life issues confronted in the participating countries. ECA strongly encourages the project objectives to include a tangible product such as a web dialogue, publication, study guide, educational outreach material, etc. to be used in local communities. Proposals should identify any partner organizations and/or individuals overseas or in the United States with which/whom they are proposing to collaborate, demonstrate the commitment of that individual or group to participate, and justify the collaboration on the basis of the proposed partner's experience, accomplishments, etc.

Selection of Participants

Applications should include a description of a focused, merit-based process for selecting exchange participants. Applicants should plan to consult with the Public Affairs Sections of U.S. Embassies in selecting participants, with the Embassy retaining the right to nominate participants, to advise the grantee regarding participants recommended by other entities, and to issue visas.

Public Affairs Section Involvement

Although project administration and implementation are the responsibility of the grantee institution, the grantee is expected to inform the PAS in participating countries of its operations and procedures and to coordinate with PAS officers in the development of project activities. The PAS should be consulted regarding country priorities, political and cultural sensitivities, security issues, and logistic and programmatic issues, in addition to its role in participant selection as outlined in the previous section.

In addition, the Public Affairs Sections (PAS) of the U.S. Embassies often play an important role in project implementation. The PAS will initially evaluate project proposals, and, once a grant is awarded, it may, in consultation with the grantee organization, coordinate planning with the grantee organization and in-country partners, facilitate in-country activities, nominate participants and vet grantee nominations, observe in-country activities, and debrief participants. The PAS will also evaluate project impact. The Office of Citizen Exchanges is responsible for producing and signing DS-2019 Forms. These forms will be provided to the foreign participants by the U.S. Embassies as part of the process of obtaining the necessary J-1 visas for entry to the United States. Grantee organizations must submit data on proposed participants to ECA electronically.

II. Award Information

Type of Award: Grant Agreement.

Fiscal Year Funds: 2008.

Approximate Total Funding: $2.53 million.

Approximate Number of Awards: Six.

Anticipated Award Date: July 2008.

Anticipated Project Completion Date: Summer 2010.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide the highest possible level of in-cash or in-kind cost sharing and funding in support of its programs, and those that provide cost sharing that represents 20% or more of the total cost of the exchange will receive priority consideration. When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a) Bureau grant guidelines require that organizations with less than four years experience in conducting international exchanges be limited to $60,000 in Bureau funding. ECA anticipates awarding, in the course of this competition, grants ranging from $350,000 to $500,000 to support program and administrative costs required to implement this exchange program. Therefore, organizations with less than four years experience in conducting international exchanges are ineligible to receive an award under this competition.

(b) Technical Eligibility: Proposals must comply with the requirements included in this Request for Grant Proposals in order to be considered technically eligible for consideration in the review process.

IV. Application and Submission Information

Note: Please read the complete announcement, either at http://www.exchanges.state.gov/education/rfgps or in the Federal Register before sending inquiries or submitting proposals. Once the RFGP deadline has passed, Bureau staff may not discuss this competition with applicants until the proposal review process has been completed.

IV.1. Obtaining an Application Package:

The Application Package comprises this Request for Grant Proposals and a Proposal Submission Instruction (PSI) document, consisting of required application forms and standard guidelines for proposal preparation. The Solicitation Package may be downloaded from: http://exchanges.state.gov/education/rfgps/menu.htm. Please read all information before downloading. Alternatively, an electronic application package may be obtained from grants.gov. Please see section IV.3f for further information.

IV.2. To receive a hard copy of the Application Package via U.S. Postal Service, contact Thomas Johnston, Office of Citizen Exchanges, ECA/PE/C/NEA-AF, Room 216, U.S. Department of State, SA-44, 301 4th Street, SW., Washington, DC 20547, Telephone: (202) 453-8162; E-mail: JohnstonTJ@state.gov. Please refer to Funding Opportunity Number ECA/PE/C/NEA-AF-08-24 on all inquiries and correspondence.

IV.3. Content and Form of Submission: Applicants must follow all instructions in the Solicitation Package. The original and ten copies of the application should be submitted per the instructions under IV.3f. “Application Deadline and Methods of Submission” section.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, a proposal narrative (not to exceed 20 double-spaced pages), and a budget. Please refer to the Application Package, containing the mandatory PSI document, for additional formatting and technical requirements.

IV.3c. You must have nonprofit status with the IRS at the time of application. If your organization is a private nonprofit that has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence To All Regulations Governing The J Visa: The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving grants under this RFGP will be third parties “cooperating with or assisting the sponsor in the conduct of the sponsor's program.” The actions of grantee program organizations shall be “imputed to the sponsor in evaluating the sponsor's compliance with” 22 CFR 62. Therefore, the Bureau expects that any organization receiving a grant under this competition will render all assistance necessary to enable the Bureau to fully comply with 22 CFR 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR 62. If your organization has experience as a designated Exchange Visitor Program Sponsor, the applicant should discuss their record of compliance with 22 CFR 62 et seq., including the oversight of their Responsible Officers and Alternate Responsible Officers, screening and selection of program participants, provision of pre-arrival information and orientation to participants, monitoring of participants, proper maintenance and security of forms, recordkeeping, reporting and other requirements.

A copy of the complete regulations governing the administration of Exchange Visitor (J) programs is available at http://exchanges.state.gov, or from: United States Department of State, Office of Exchange Coordination and Designation, ECA/EC/ECD-SA-44, Room 734, 301 4th Street, SW., Washington, DC 20547, Telephone: (202) 203-5029, FAX: (202) 453-8640.

IV.3d.2. Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes represent specific results a project is intended to achieve and are usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take into consideration the following information when preparing your budget:

IV.3e.1. Applicants must submit a comprehensive budget for the entire project, including travel. There must be a summary budget as well as breakdowns reflecting both administrative and program budgets. Applicants may provide separate sub-budgets for each program component, phase, location, or activity to provide clarification. Budgets that limit administrative costs to approximately 25% of the funding sought from ECA will be given priority consideration.

IV.3e.2. Allowable costs for the program include the following:

(1) Direct program expenses.

(2) Administrative costs.

(3) Allowable indirect costs.

Please refer to the Solicitation Package for complete budget guidelines and formatting instructions.

IV.3f. Application Deadline and Methods of Submission:

Application Deadline Date: May 12, 2008.

Reference Number: ECA/PE/C/NEA-AF-08-24.

Methods of Submission

Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and ten (10) copies of the application should be sent to: U.S. Department of State, SA-44, Bureau of Educational and Cultural Affairs, Ref.: ECA/PE/C/NEA-AF-08-24, Program Management, ECA/EX/PM, Room 534, 301 4th Street, SW., Washington, DC 20547.

Applicants submitting hard-copy applications must also submit the “Executive Summary” and “Proposal Narrative” sections of the proposal in text (.txt) format on a PC-formatted disk. The Bureau will provide these files electronically to the appropriate Public Affairs Section(s) at the U.S. embassy(ies) for its (their) review.

IV.3f.2—Submitting Electronic Applications.

Applicants have the option of submitting proposals electronically through Grants.gov (http://www.grants.gov). Complete solicitation packages are available at Grants.gov in the “Find” portion of the system. Please follow the instructions available in the ‘Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. Therefore, we strongly recommend that you not wait until the application deadline to begin the submission process through Grants.gov.

Direct all questions regarding Grants.gov registration and submission to: Grants.gov Customer Support, Contact Center Phone: 800-518-4726, Business Hours: Monday-Friday, 7 a.m.-9 p.m. Eastern Time, e-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grant awards resides with the Bureau's Grants Officer.

Review Criteria

Technically eligible applications will be competitively reviewed according to the criteria stated below.

Quality of the Program Idea: Proposals should be substantive, well thought out, focused on issues of demonstrable relevance to all proposed participants, and responsive to the exchange suggestions and guidelines provided above.

Implementation Plan and Ability to Achieve Objectives: A detailed project implementation plan should establish a clear and logical connection between the interest, the expertise, and the logistic capacity of the applicant and the objectives to be achieved. The plan should discuss in concrete terms how the institution proposes to achieve the objectives. Institutional resources—including personnel—assigned to the project should be adequate and appropriate to achieve project objectives. The substance of workshops and site visits should be included as an attachment, and the responsibilities of U.S. participants and in-country partners should be clearly delineated.

Institutional Capacity: Proposals should include an institutional record of successful exchange programs, with reference to responsible fiscal management and full compliance with reporting requirements. The Bureau will consider the demonstrated potential of new applicants and will evaluate the performance record of prior recipients of Bureau grants as reported by the Bureau grant staff.

Post-Grant Activities: Applicants should provide a plan for sustained follow-on activity (building on the linkages developed under the grant and the activities initially funded by the grant) after grant funds have been expended. This will ensure that Bureau-supported projects sustainable and are not isolated events. Funds for all post-grant activities must be in the form of contributions from the applicant or sources outside the Bureau. Costs for these activities should not appear in the proposal budget but should be outlined in the narrative.

Project Evaluation/Monitoring: Proposals should include a detailed plan to monitor and evaluate the project. Competitive evaluation plans will describe how the applicant organization will measure results, defined in both qualitative and quantitative terms, and will include draft data collection instruments (surveys, questionnaires, etc.) in Tab E. Successful applicants will be expected to submit a report after each project component is concluded or semi-annually, whichever is less frequent.

Cost Effectiveness and Cost Sharing: Administrative costs should be kept low. Proposal budgets should provide evidence of any cost sharing offered, comprised of cash or in-kind contributions. Cost sharing may be derived from diverse sources, including private sector contributions and/or direct institutional support.

Support of Diversity: Proposals should demonstrate support for the Bureau's policy on diversity. Features relevant to this policy should be cited in program implementation (selection of participants, program venue, and program evaluation), program content, and program administration.

VI. Award Administration Information

VI.1a. Award Notices:

Final awards cannot be made until funds have been appropriated by Congress, allocated, and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer and mailed to the recipient's responsible officer, identified in the application.

Unsuccessful applicants will receive notification of the results of the application review from the ECA program office coordinating this competition.

VI.2. Administrative and National Policy Requirements:

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants, http://exchanges.state.gov/education/grantsdiv/terms.htm#articleI.

VI.3. Reporting Requirements: You must provide ECA with a hard copy original plus one copy of the following reports:

1. Semi-annual program and financial reports, which include a description of program activities implemented in the course of the six-month period and an accounting of expenditures.

2. A final program and financial report no more than 90 days after the expiration date of the award.

3. Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

Organizations awarded grants will be required to maintain specific data on program participants and activities in an electronically accessible database format that can be shared with the Bureau as required. As a minimum, the data must include the following:

(1) Name, address, contact information and biographic sketch of all persons who travel internationally on funds provided by the grant.

(2) Itineraries of international and domestic travel, providing dates of travel and cities in which any exchange experiences take place. Final schedules for in-country and U.S. activities must be received by the ECA Program Officer at least three work days prior to the official opening of the activity.

VII. Agency Contacts

For questions about this announcement, contact: Thomas Johnston, Office of Citizen Exchanges, ECA/PE/C/NEA-AF, Room 216, U.S. Department of State, SA-44, 301 4th Street, SW., Washington, DC 20547, Telephone: (202) 453-8162; E-mail: JohnstonTJ@state.gov.

Correspondence with the Bureau concerning this RFGP should reference the title and number ECA/PE/C/NEA-AF-08-24.

Please read the complete announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 12, 2008.
C. Miller Crouch,
Acting Assistant Secretary, Bureau of Educational and Cultural Affairs, Department of State.

[FR Doc. E8-5672 Filed 3-19-08; 8:45 am]

BILLING CODE 4710-05-P